DEPARTMENT OF ENERGY

Federal Energy Regulatory Commission

Combined Notice of Filings # 2

Take notice that the Commission received the following electric rate filings:

Docket Numbers: ER24-1005-000.

Applicants: American Electric Power Service Corporation, PJM Interconnection, L.L.C.

Description: Compliance filing: American Electric Power Service Corporation submits tariff filing per 35: AEP submits Informational Filing about Att. 1 of ILDSA, SA No. 1336 to be effective N/A.

Filed Date: 1/25/24.

Accession Number: 20240125-5092.

Comment Date: 5 p.m. ET 2/15/24.

Docket Numbers: ER24-1006-000.

Applicants: Midcontinent Independent System Operator, Inc.

Description: § 205(d) Rate Filing: 2024-01-25_SA 3435 Entergy Mississippi-Wildwood Solar 2nd Rev GIA (J908) to be effective 3/26/2024.

Filed Date: 1/25/24.

Accession Number: 20240125-5095.

Comment Date: 5 p.m. ET 2/15/24.

Docket Numbers: ER24-1007-000.

Applicants: Black Hills Colorado Electric, LLC.

Description: § 205(d) Rate Filing: Unreserved Use Penalty and Transmission Planning Updates to be effective 3/26/2024.

Filed Date: 1/25/24.

Accession Number: 20240125-5106.

Comment Date: 5 p.m. ET 2/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 25, 2024.
Debbie-Anne A. Reese,
Acting Secretary.

[FR Doc. 2024-01901 Filed 1-30-24; 8:45 am]

BILLING CODE 6717-01-P